DEPARTMENT OF HOMELAND SECURITY

Coast Guard

[Docket No. USCG-2007-0040]

Application for the Cruise Ship CORAL PRINCESS, Review for Inclusion in the Shipboard Technology Evaluation Program; Final Environmental Assessment and Finding of No Significant Impact

AGENCY: Coast Guard, DHS.

ACTION: Notice of availability.

SUMMARY: The Coast Guard announces the availability of the Final Environmental Assessment (FEA) and Finding of No Significant Impact (FONSI) that evaluated the potential environmental impacts resulting from accepting the cruise ship CORAL PRINCESS into the Shipboard Technology Evaluation Program (STEP). The CORAL PRINCESS runs four regular cruising routes that include Alaska, California, the Panama Canal, the U.S. Virgin Islands and Florida. Under the STEP, the CORAL PRINCESS will be using and testing the Hyde Marine, INC. Guardian Ballast Water Treatment System, when the vessel operates in U.S. waters.

ADDRESSES: Comments and material received from the public, as well as documents mentioned in this notice as being available in the docket, are part of the docket USCG-2007-0040. These documents are available for inspection or copying at the Docket Management Facility (M-30), U.S. Department of Transportation, West Building Ground Floor, Room W12-140, 1200 New Jersey Avenue, SE., Washington, DC 20590-0001, between 9 a.m. and 5 p.m., Monday through Friday, except Federal holidays. You can also find all docketed documents on the Federal Document Management System at http://www.regulations.gov, United States Coast Guard docket number USCG-2007-0040.

You may submit comments identified by docket number USCG-2007-0040 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these methods.

FOR FURTHER INFORMATION CONTACT: If you have questions on this assessment please contact LCDR Brian Moore at 202-372-1434 or e-mail: brian.e.moore@uscg.mil. If you have questions on viewing or submitting material to the docket, call Renee V. Wright, Program Manager, Docket Operations, telephone 202-366-9826.

SUPPLEMENTARY INFORMATION: This document has been tiered off the Programmatic Environmental Assessment (PEA) for the STEP dated July 2004 (69 FR 71068, Dec. 8, 2004) and was prepared in accordance with the National Environmental Policy Act of 1969 (Section 102 (2)(c)), as implemented by the Council on Environmental Quality Regulations (40 CFR parts 1500-1508) and Coast Guard Commandant Instruction M16475.1D. From these documents the Coast Guard has prepared a FEA and FONSI for accepting the CORAL PRINCESS into the STEP.

Response to Comments: The Coast Guard requested comments on the Draft Environmental Assessment (DEA) when the Notice of Availability and Request for Public Comments was published on Friday, April 4, 2008 (73 FR 18544, Apr. 4, 2008). The Coast Guard received 19 substantive comments total from 2 agencies. The Coast Guard has responded to all of the comments that were within the scope of DEA.

Both commenters stated their support for the CORAL PRINCESS acceptance into the STEP, and that the application should be granted.

The Coast Guard appreciates the support for including the CORAL PRINCESS into the STEP.

One commenter asked why California and the U.S. Virgin Islands (USVI) were not included in the assessment as possible discharge ports, while Florida and Alaska were included.

The California port was not included because the FEA only addressed ports where ballast water discharge will take place. The vessel will not discharge ballast water into California State waters. Therefore, no discussion of California ports has been included. The USVI ports were included in the applicable sections of the DEA and FEA.

One commenter asked for clarification regarding Table 2-1. The commenter questioned the allotted number of port arrivals, and stated that a vessel would make significantly more arrivals at those 10 ports.

The Coast Guard agrees with the comment; there may be up to 18 arrivals at any of the ports noted in the DEA and has changed this number accordingly in the FEA. However, this does not mean there would be an associated proportional increase in the amount of treated ballast water (BW) that would be discharged into port. The vessel infrequently takes on BW at any port and on the rare occasions when it does, it typically discharges that water prior to departure. Therefore, the additional number of port visits does not necessarily result in an increase in the amount of water treated with the system or carried to a different port or place and discharged.

One commenter asked if the CORAL PRINCESS would be treating ballast during all ballasting operations from years one through five, and if the testing in the other years will be for operation and maintenance.

The Coast Guard has clarified this issue by adding a summary of the STEP procedures into the introduction of the FEA.

One commenter asked how long it would take a vessel to ballast, and if the filter is backflushed at the end of ballasting. The commenter also asked if the filtered organisms will be returned to their point of uptake.

The Coast Guard has determined that the vessel normally takes on ballast at sea and discharges that ballast also at sea. If and when it does take on ballast at sea (which has historically been small amounts of water), the vessel will move a short distance between the time uptake began to the point at which the filter would begin backflushing. During this time, the Coast Guard believes the vessel will take approximately a half hour to fill a BW tank completely at the ballast water pumping rate (250 m³/hr). At the vessel's normal operating speeds, (12-22 kts) it will have traveled less than 20 nautical miles in this time.

One commenter requested a list of the State codes for turbidity requirements and interpretations on how the assessment's findings compare to the State code.

The Coast Guard disagrees with the request. In both the PEA and this FEA, the potential impacts due to turbidity were considered and were deemed to be negligible; therefore the additional background information requested would unnecessarily encumber the FEA, detracting from its purpose.

Two comments asked if the 55 microns referred to the length/width of the mesh openings (typical for 55 micron mesh nets), or the diagonal opening. The comments expressed concern that if the length/width is 55 microns, the diagonal length would be approximately 78 microns and this would allow organisms larger than 55 microns to pass through the filter.

The Coast Guard, in reviewing the STEP application package, has determined that the filtration system has an actual opening dimension of 55 microns using stacked filtration discs, rather than the mesh screen type assumed by the comments. With respect to the commenters' other concern, the Coast Guard notes that the initial filtration stage is only the first part of the overall treatment system. The purpose of the experimentation conducted during the vessel's participation in the STEP is to evaluate the efficacy of the entire treatment system in reducing the discharge of organisms.

One commenter asked for clarification regarding the statement “* * * at 90% UV [Ultraviolet] transmittance in the water.” The commenter asked if the 90% transmittance is typical of the water that would be taken up at the specific ports described in the assessment. The commenter also expressed that this value would decrease in turbid water, especially in the Alaskan waters that were highly turbid due to glacial melt runoff.

The Coast Guard acknowledges that many source waters may have varying transmittance values. However, the UV treatment occurs after the water has passed through the filtration system, which is intended to remove at least some of the suspended materials which would block UV transmission as well as removing larger organisms. The Coast Guard notes that the point of the experiments is to evaluate the efficacy of the treatment system under the operating conditions experienced by the vessel.

One commenter asked if there was any specific, pertinent information on Alaskan wetlands that should be included in the FEA.

While there is significant information concerning Alaskan wetlands available, the Coast Guard disagrees that the description of sensitive areas in Alaskan waters as presented in the DEA is insufficient to make a decision regarding the STEP acceptance. The vessel will only be visiting areas that it is already visiting and will not be discharging treated water in any such wetland areas.

One commenter asked if any Essential Fish Habitat was within the Port Everglades region.

The available information on Essential Fish Habitat (EFH) shows that the Port Everglades area has the following EFH: Coastal Migratory Pelagics and Coral, Coral Reef, and Live/Hard Bottom Habitat. Based on feedback from the U.S. Fish and Wildlife Service and the National Oceanic and Atmospheric Administration the proposed action will have no negative impact to EFH in Port Everglades.

One commenter asked that more detail regarding the area(s) around several of the ports be included.

The Coast Guard has added additional detail to the description of Port Everglades and USVI waters.

One commenter asked how many and what types of invasive species are found around Port Everglades. The commenter also asked if any of these species have been known to cause any environmental or economic harm.

It is not possible to make a definitive statement about exact numbers of invasive species in any given water body. Some notable species have been identified and their economic and environmental harm estimated. This information is readily available through numerous Nonindigenous Species (NIS) focused agency reports and work groups. The Coast Guard disagrees that enumeration of specific invasive species occurring in the relevant ports, and further discussion of the potential risk of transferring those specific species from Florida to other places, is necessary or useful for the purpose of this FEA. Further, the purpose of any ballast water management system being evaluated under the STEP is to prevent the transference of any organisms, whether known to be invasive or not, from one location to another.

One commenter requested a list of NIS and if any of these species have been known to cause any environmental or economic harm.

The Coast Guard has determined that the problem of NIS in U.S. waters is the basis of the STEP, and research on NIS and their impacts is readily available from numerous sources. This question is outside the scope of the FEA, and in keeping with CEQ regulations for conducting FEAs, the extensive supporting information is not repeated here.

One commenter asked for clarification regarding the statement “Small percentages of estuarine areas in the ports of interest were rated ‘poor' * * *”. The commenter asked if it would be possible to avoid discharging in these areas, or to list which ports have poor light conditions. The commenter also asked what was meant by the description “small percentages”.

The Coast Guard has determined that the areas that are rated as poor for light conditions are rated so due to the natural ambient condition of glacial till suspended in the water. While it could be possible for the CORAL PRINCESS to restrict its ballasting locations, the Coast Guard disagrees with the need to do so in these or any other areas. The very small volumes of water which could potentially be discharged during operation of the ship's BWMS have been considered and determined negligible. “Small percentages” refers to the waters in the immediate vicinity of glacier termini.

One commenter stated that the environmental consequences are generalized across all regions, with little to no specific reference to any of the previously described discharge ports. The commenter asked that specific examples of environmental consequences for the various habitats/ports be provided.

The Coast Guard has determined that the water quality impacts on the ballast water taken aboard the CORAL PRINCESS will be negligible; therefore, generalization of the environmental impacts invalid. The addition of repetitive specific impacts in effected ports would unnecessarily lengthen the FEA. Based on the service history of the CORAL PRINCESS, most ballasting is done at sea and is in small amounts. When harbor water is intentionally pumped aboard for the tests, it will also be discharged at sea following treatment. The proposal does provide for the CORAL PRINCESS to use the Ballast Water Management System as needed and occasionally a need to ballast in a port area may be encountered. However, the Coast Guard considers the potential for any adverse effects from ballasting, filtering, treating with ultraviolet light and discharging relatively small quantities of sea water back to its source to be negligible for all potential discharge locations. As a result of the NEPA process, the only known impacts are a slight beneficial impact on biological resources and socioeconomic resources. Therefore, further describing habitat or location specific impacts is not necessary.

One commenter asked what references and/or data were used to support the conclusions about water quality impacts of the proposed action alternative.

The Coast Guard has used the following rationale for the description of likely impacts of using the system. The ship normally takes on and discharges ballast at sea. In these cases, typically there are fewer organisms in offshore waters compared to estuarine areas, and hence less organic matter to be taken aboard, treated and discharged. Similarly in the cases where the ship may take on and discharge ballast in port, the use of the treatment system should have no measurable adverse effects on the water quality of the ecosystem where the ballast water is discharged.

One commenter asked how nonindigenous species impact low income and minority populations under the no action alternative.

The Coast Guard has determined that an example of a potential impact to a low income or minority population might be that a decline in abundance of a species targeted by subsistence fisheries could occur as a result of the introduction of nonindigenous competitors, predators, or pathogens. Please refer to the STEP Programmatic Environmental Assessment that also evaluated the impacts to low income and minority populations.

Based on the information provided in the DEA, one commenter stated that the STEP program meets their environmental standards, and is not likely to adversely affect federally listed threatened or endangered species under their jurisdiction.

The Coast Guard acknowledges the comment and support for the CORAL PRINCESS and the STEP application.

Final Environmental Assessment: The Final PEA for the STEP identified and examined the reasonable alternatives available to evaluate novel ballast water management systems for effectiveness against NIS transportation by ships' ballast water.

The FEA for acceptance of the CORAL PRINCESS into the STEP, and the subsequent operation of the experimental treatment system, analyzed the no action alternative and one action alternative that could fulfill the purpose and need of gaining valuable scientific information on the system's efficacy and facilitating the development of effective treatment technologies capable of preventing the transportation of NIS in ships' ballast water. Specifically, the FEA for the CORAL PRINCESS acceptance into the STEP is tiered off of the PEA for the STEP, and considers the potential impacts to the environment from the operation of the treatment system on the CORAL PRINCESS by examining the functioning of the system, the operational practices of the vessel, and the potential effects on discharge water quality.

This notice is issued under authority of the National Environmental Policy Act of 1969 (Section 102 (2)(c)), as implemented by the Council of Environmental Quality regulations (40 CFR parts 1500-1508) and Coast Guard Commandant Instruction M16475.1D.

Dated: November 21, 2008.
Brian M. Salerno,
Rear Admiral, U.S. Coast Guard, Assistant Commandant for Marine Safety, Security and Stewardship.

[FR Doc. E8-28473 Filed 11-28-08; 8:45 am]

BILLING CODE 4910-15-P